DEPARTMENT OF DEFENSE

Department of the Army

Availability of the Draft Environmental Assessment for an Airspace Proposal in the Savannah, GA, Hunter Army Airfield Area

AGENCY: Department of the Army. DoD.

ACTION: Notice of availability.

SUMMARY: This announces the availability of the Draft Environmental Assessment (EA) for an airspace proposal in the Savannah, GA, Hunter Army Airfield area. The airspace proposal is required for the establishment of Helicopter Aerial Refueling routes utilizing United States Army helicopters and United States Air Force and/or Marine Corp. airplanes to conduct air-to air refueling training. In order to use these routes on a recurring basis they are required to be published in the Department of Defense publication system therefore requiring an environmental study. The EA assesses the potential environmental impacts of all areas that underlie the flight routes. There are four routes in the proposal which will be utilized by an U.S. Army tenant unit of Hunter Army Airfield, GA.

DATES: The draft EA will be available for public review from August 9, 2006 through September 8, 2006. Written comments must be received by September 8, 2006.

ADDRESSES: Written comments are to be provided to Mr. Troy Wagner at United States Army Special Operations Command, Aviation Standardization Officer, ATTN: AOAO-STD, Bldg. E-2929, Desert Storm Drive, Ft. Bragg, NC 28310 or at dennis.troy.wagner@us.army.mil.

FOR FURTHER INFORMATION CONTACT: Chief Warrant Officer Four Troy Wagner, at (910) 432-7706.

SUPPLEMENTARY INFORMATION: 1. The Federal Aviation Administration is serving as a cooperating agency on the preparation of the EA.

2. The EA is available for review at the following location:

Dial-Cordy and Associates, Inc. Environmental Consultants Web site at: http://www.dialcordy.com.

Use the following steps to access the Ft. Campbell EA:

(1) Log onto the Dial Cordy Web site at Dialcordy.com;

(2) Click on “Library”;

(3) Click on “FTP Site”;

(4) Enter user name: dialcord_hunter;

(5) Enter password: 040784.

3. Public coordination and communications with the State Historical Preservation Offices from the states of Georgia, Florida, South Carolina and Alabama has been accomplished. Each of the states listed have reviewed the proposal and have returned correspondence stating that there will be no impacts to any historical sites during the conduct of the proposed training.

Brenda S. Bowen,
Army Federal Register Liaison Officer.

[FR Doc. 06-6795 Filed 8-8-06; 8:45 am]

BILLING CODE 3710-08-M